COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and a service from the Procurement List previously furnished by nonprofit agencies employing persons who are blind or have other severe disabilities.

DATES: Date deleted from the Procurement List: June 10, 2018.

ADDRESSES: Committee for Purchase From People Who Are Blind or Severely Disabled, 1401 S Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Deletions

On 3-30-2018 (83 FR 62), the Committee for Purchase From People Who Are Blind or Severely Disabled published notice of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN(s)—Product Name(s):

7930-01-619-1851—Cleaner, Wheel and Tire, 5 GL

7930-01-619-2632—Bug Remover, Concentrated, Gelling, Vehicle, 5 GL

Mandatory Source(s) of Supply: VisionCorps, Lancaster, PA

Contracting Activity: General Services Administration, Fort Worth, TX

Service

Service Type: Grounds Maintenance Service

Mandatory for: Naval & Marine Corps Reserve Center, Encino, CA

Mandatory Source(s) of Supply: Lincoln Training Center and Rehabilitation Workshop, South El Monte, CA

Contracting Activity: Dept of the Navy, U.S. Fleet Forces Command

Amy Jensen,
Director, Business Operations.

[FR Doc. 2018-10108 Filed 5-10-18; 8:45 am]

BILLING CODE 6353-01-P